DEPARTMENT OF THE INTERIOR

Bureau of Land Management

[AK-932-1430-ET; AA-26417]

Public Land Order No. 7581; Extension of Public Land Order No. 6458; Alaska

AGENCY: Bureau of Land Management, Interior.

ACTION: Public land order.

SUMMARY: This order extends the withdrawal created by Public Land Order No. 6458 for an additional 20-year period. This extension is necessary to continue the protection of the Sitka Magnetic Observatory Site.

EFFECTIVE DATE: September 6, 2003.

FOR FURTHER INFORMATION CONTACT: Robbie J. Havens, Bureau of Land Management, Alaska State Office, 222 W. 7th Avenue, No. 13, Anchorage, Alaska 99513-7599, 907-271-5477.

Order

By virtue of the authority vested in the Secretary of the Interior by Section 204 of the Federal Land Policy and Management Act of 1976, 43 U.S.C. 1714 (2000), it is ordered as follows:

1. The withdrawal created by Paragraph 4 of Public Land Order No. 6458 (48 FR 40232, September 6, 1983), which withdrew 117.13 acres of public land from surface entry and mining to protect the Sitka Magnetic Observatory Site, is hereby extended for an additional 20-year period.

2. This withdrawal will expire on September 5, 2023, unless as a result of a review conducted prior to the expiration date pursuant to section 204(f) of the Federal Land Policy and Management Act of 1976, 43 U.S.C. 1714(f)(1994), the Secretary determines that the withdrawal shall be extended.

Dated: August 14, 2003.
Rebecca W. Watson,
Assistant Secretary—Land and Minerals Management.

[FR Doc. 03-22505 Filed 9-3-03; 8:45 am]

BILLING CODE 4310-JA-P